DEPARTMENT OF THE INTERIOR

National Park Service

Plan of Operations, Environmental Assessment, and Draft Floodplains and Wetlands Statements of Findings, Big Thicket National Preserve, TX

AGENCY: National Park Service, Department of the Interior.

ACTION: Notice of availability of a Plan of Operations, Environmental Assessment, and draft Floodplain and Wetland Statements of Findings for a 30-day public review at Big Thicket National Preserve.

SUMMARY: Notice is hereby given in accordance with § 9.52(b) of Title 36 of the Code of Federal Regulations, Part 9, Subpart B, that the National Park Service (NPS) has received from Sanchez Oil and Gas Corporation a Plan of Operations for drilling and production of the WM Rice #1 Well from a surface location north of County Road 4825 within Big Thicket National Preserve, Tyler County, Texas. Additionally, the NPS has prepared an Environmental Assessment and draft Floodplain and Wetland Statements of Findings on this proposal.

DATES: The above documents are available for public review and comment through December 27, 2004.

ADDRESSES: The Plan of Operations, Environmental Assessment, and draft Floodplain and Wetland Statements of Findings are available for public review and comment in the Office of the Superintendent, Art Hutchinson, Big Thicket National Preserve, 3785 Milam Street, Beaumont, Texas. Copies of the Plan of Operations are available, for a duplication fee; and copies of the Environmental Assessment and draft Floodplain and Wetland Statements of Findings are available upon request, and at no cost, from the Superintendent, Art Hutchinson, Big Thicket National Preserve, 3785 Milam Street, Beaumont, Texas 77701.

FOR FURTHER INFORMATION CONTACT: Mr. Dusty Pate, Range Technician, Big Thicket National Preserve, 3785 Milam Street, Beaumont, Texas 77701, Telephone: 409 839-2689 ext. 232, e-mail at Haigler_Pate@nps.gov.

SUPPLEMENTARY INFORMATION: If you wish to submit comments on these documents within the 30 days; mail them to the street address provided above, hand-deliver them to the park at the street address provided above, or electronically file them to the e-mail address provided above. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: October 27, 2004.
John T. Crowley,
Acting Director, Intermountain Region, National Park Service.

[FR Doc. 04-26004 Filed 11-23-04; 8:45 am]

BILLING CODE 4312-CB-P